DEPARTMENT OF AGRICULTURE

Rural Utility Service

Submission for OMB Review; Comment Request

September 8, 2015.

The Department of Agriculture has submitted the following information collection requirement(s) to Office of Management and Budget (OMB) for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget, New Executive Office Building, 725—17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: Advance of Loan Funds and Budgetary Control and Related Burdens.

OMB Control Number: 0572-0015.

Summary of Collection: The Rural Utilities Service (RUS) is authorized by the Rural Electrification Act (RE Act) of 1936, as amended, “to make loans in several States and territories of the United States for rural electrification and for the purpose of furnishing and improving electric and telephone service in rural areas and to assist electric borrowers to implement demand side management, energy conservation programs, and on-grid and off-grid renewable energy systems.” Borrowers will provide the agency with information that supports the use of the funds as well as identify the type of projects for which they will use the funds.

Need and Use of the Information: RUS electric borrowers will submit RUS form 595 and 219. Form 595, Financial Requirement & Expenditure Statement, to request an advance of loan funds remaining for an existing approved loan and to report on the expenditure of previously advanced loan funds. Form 219, Inventory of Work Orders, serves as a connecting line and provides an audit trail that verifies the evidence supporting the propriety of expenditures for construction of retirement projects that supports the advance of funds. The information collected will ensure that loan funds are expended and advanced for RUS approved budget process and amounts. Failure to collect proper information could result in improper determinations of eligibility or improper use of funds.

Description of Respondents: Not-for-profit institutions; Business or other for-profit.

Number of Respondents: 600.

Frequency of Responses: Reporting: On occasion.

Total Burden Hours: 14,570.

Rural Utility Service

Title: 7 CFR 1773, Policy on Audits of RUS Borrowers.

OMB Control Number: 0572-0095.

Summary of Collection: Under the authority of the Rural Electrification Act of 1936 (ACT), as amended 7 U.S.C. 901 et seq., the Administrator is authorized and empowered to make loans under certain specified circumstances for rural electrification and the furnishing of electric energy to persons in rural areas and for the purpose of furnishing and improving telephone service in rural areas. RUS, in representing the Federal Government as Mortgagee, relies on the information provided by the borrowers in their financial statements to make lending decisions as to borrowers' credit worthiness and to assure that loan funds are approved, advanced and disbursed for proper Act purposes. Borrowers are required to furnish a full and complete report of their financial condition, operations and cash flows, in form and substance satisfactory to RUS.

Need and Use of the Information: RUS will collect information to evaluate borrowers' financial performance, determine whether current loans are at financial risk, and determine the credit worthiness of future losses. If information is not collected, it would delay RUS' analysis of the borrowers' financial strength, thereby adversely impacting current lending decisions.

Description of Respondents: Not-for-profit institutions; Business or other for-profit.

Number of Respondents: 1,340.

Frequency of Responses: Reporting: On occasion.

Total Burden Hours: 14,914.

Rural Utilities Service

Title: 7 CFR 1751 Subpart B/State Telecommunications Modernization Plan.

OMB Control Number: 0572-0104.

Summary of Collection: The Rural Electrification Loan Restructuring Act (RELRA, Pub. L. 103-129), November 1, 1993, amended the Rural Electrification Act of 1936, 7 U.S.C. 901 et seq. (the RE Act). RELRA required that a State Telecommunications Modernization Plan (Modernization Plan or Plan), meet all the statutory requirements of RELRA (Part 1751, Subpart B). The plan at a minimum must provide for: (1) The elimination of party line service; (2) the availability of telecommunications services for improved business, educational, and medical services; (3) must encourage computer networks and information highways for subscribers in rural areas; (4) must provide for subscribers in rural areas to be able to receive through telephone lines: (a) Conference calling; (b) video images; and (c) data at a rate of 1 million bits of information per second; and, the proper routing of information to subscribers.

Need and Use of the Information: The Rural Utilities Service (RUS) telecommunications program staff will review the Modernization Plan and approve the plans, if it complies with the requirements of the regulation. If the proposed Modernization Plan is approved, RUS will notify the developer of the approval. If not, RUS will make specific written comments and suggestions for modifying the proposed Modernization Plan so that it will comply with the requirements of the regulation. If the information is not collected, RUS' authority to make loans under the Rural Electrification Act will be restricted.

Description of Respondents: Business or other for-profit; Not-for-profit institutions.

Number of Respondents: 1.

Frequency of Responses: Reporting: On occasion.

Total Burden Hours: 350.

Charlene Parker,
Departmental Information Collection Clearance Officer.

[FR Doc. 2015-22947 Filed 9-10-15; 8:45 am]

BILLING CODE 3410-15-P